DEPARTMENT OF ENERGY

Federal Energy Regulatory Commission

Combined Notice of Filings #1

Take notice that the Commission received the following electric corporate filings:

Docket Numbers: EC12-65-000.

Applicants: Sunoco Power Generation, LLC.

Description: Application for Approval Pursuant to Section 203 of the Federal Power Act of Sunoco Power Generation, LLC.

Filed Date: 2/6/12.

Accession Number: 20120206-5179.

Comments Due: 5 p.m. ET 2/27/12.

Take notice that the Commission received the following electric rate filings:

Docket Numbers: ER12-996-000.

Applicants: Crafton LLC.

Description: Crafton Tariff Cancellation to be effective 2/17/2012.

Filed Date: 2/6/12.

Accession Number: 20120206-5000.

Comments Due: 5 p.m. ET 2/27/12.

Docket Numbers: ER12-997-000.

Applicants: Lilabell Energy LLC.

Description: Lilabell Energy LLC, FERC Electric Tariff to be effective 4/6/2012.

Filed Date: 2/6/12.

Accession Number: 20120206-5070.

Comments Due: 5 p.m. ET 2/27/12.

Docket Numbers: ER12-998-000.

Applicants: Southwestern Electric Power Company.

Description: 20120206 TexLa Compliance Filing to be effective 12/17/2010.

Filed Date: 2/6/12.

Accession Number: 20120206-5089.

Comments Due: 5 p.m. ET 2/27/12.

Docket Numbers: ER12-999-000.

Applicants: AP Gas & Electric (MD), LLC.

Description: AP Gas & Electric (MD), LLC—Petition for Approval of Market-Based Rate—Clone to be effective 4/6/2012.

Filed Date: 2/6/12.

Accession Number: 20120206-5098.

Comments Due: 5 p.m. ET 2/27/12.

Docket Numbers: ER12-1000-000.

Applicants: PJM Interconnection, L.L.C.

Description: Original Service Agreement No. 3197; PJM Queue Position No. V3-045 to be effective 1/1/2012.

Filed Date: 2/6/12.

Accession Number: 20120206-5103.

Comments Due: 5 p.m. ET 2/27/12.

Docket Numbers: ER12-1001-000.

Applicants: PJM Interconnection, L.L.C.

Description: Original Service Agreement No. 3184; Queue No. W3-032 to be effective 1/16/2012.

Filed Date: 2/6/12.

Accession Number: 20120206-5105.

Comments Due: 5 p.m. ET 2/27/12.

Docket Numbers: ER12-1002-000.

Applicants: AP Gas & Electric (NJ), LLC.

Description: AP Gas & Electric (NJ), LLC—Petition for Approval of Market-Based Ra—Clone to be effective 4/6/2012.

Filed Date: 2/6/12.

Accession Number: 20120206-5108.

Comments Due: 5 p.m. ET 2/27/12.

Docket Numbers: ER12-1003-000.

Applicants: PJM Interconnection, L.L.C.

Description: Original Service Agreement No. 3183; Queue No. W3-029 to be effective 1/16/2012.

Filed Date: 2/6/12.

Accession Number: 20120206-5111.

Comments Due: 5 p.m. ET 2/27/12.

Docket Numbers: ER12-1004-000.

Applicants: Southwestern Electric Power Company.

Description: 20120206 ETEC Compliance Filing to be effective 12/17/2010.

Filed Date: 2/6/12.

Accession Number: 20120206-5112.

Comments Due: 5 p.m. ET 2/27/12.

Docket Numbers: ER12-1005-000.

Applicants: AP Gas & Electric (IL), LLC.

Description: AP Gas & Electric (IL), LLC—Petition for Approval of Market-Based Ra—Clone to be effective 4/6/2012.

Filed Date: 2/6/12.

Accession Number: 20120206-5113.

Comments Due: 5 p.m. ET 2/27/12.

Docket Numbers: ER12-1006-000.

Applicants: AP Gas & Electric (OH), LLC.

Description: AP Gas & Electric (OH), LLC—Petition for Approval of Market-Based Rates to be effective 4/6/2012.

Filed Date: 2/6/12.

Accession Number: 20120206-5116.

Comments Due: 5 p.m. ET 2/27/12.

Docket Numbers: ER12-1007-000.

Applicants: AP Gas & Electric (NY), LLC.

Description: AP Gas & Electric (NY), LLC—Petition for Approval of Market-Based Rates to be effective 4/6/2012.

Filed Date: 2/6/12.

Accession Number: 20120206-5118.

Comments Due: 5 p.m. ET 2/27/12.

Docket Numbers: ER12-1008-000.

Applicants: PJM Interconnection, L.L.C.

Description: Original Service Agreement No. 3186; Queue No. W4-072 to be effective 1/16/2012.

Filed Date: 2/6/12.

Accession Number: 20120206-5136.

Comments Due: 5 p.m. ET 2/27/12.

Docket Numbers: ER12-1009-000.

Applicants: Pacific Gas and Electric Company.

Description: Pacific Gas and Electric Company submits limited waiver request of CAISO tariff provisions.

Filed Date: 2/7/12.

Accession Number: 20120207-5021.

Comments Due: 5 p.m. ET 2/28/12.

Docket Numbers: ER12-1010-000.

Applicants: Florida Power Corporation.

Description: Service Agreement No. 151 under Florida Power Corporation OATT to be effective 1/1/2012.

Filed Date: 2/7/12.

Accession Number: 20120207-5022.

Comments Due: 5 p.m. ET 2/28/12.

Take notice that the Commission received the following electric securities filings:

Docket Numbers: ES12-22-000.

Applicants: Cross-Sound Cable Company, LLC.

Description: Cross-Sound Cable Company, LLC's Application for Authorization under Section 204 of the Federal Power Act and Request for Confidential Treatment.

Filed Date: 2/3/12.

Accession Number: 20120203-5207.

Comments Due: 5 p.m. ET 2/24/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 7, 2012.
Nathaniel J. Davis, Sr.,
Deputy Secretary.

[FR Doc. 2012-3382 Filed 2-13-12; 8:45 am]

BILLING CODE 6717-01-P